DEPARTMENT OF THE INTERIOR

Bureau of Reclamation

Public Meeting of the Glen Canyon Dam Adaptive Management Work Group

AGENCY: Bureau of Reclamation, Interior.

ACTION: Notice of public meeting.

SUMMARY: In accordance with the Federal Advisory Committee Act of 1972, the Bureau of Reclamation (Reclamation) is publishing this notice to announce that a Federal Advisory Committee meeting of the Glen Canyon Dam Adaptive Management Work Group (AMWG) will take place.

DATES: The meeting will be held on Wednesday, September 20, 2017, from 8:30 a.m. to approximately 5:30 p.m.

ADDRESSES: The meeting will be held at the DoubleTree by Hilton, 2100 South Priest Drive, Tempe, Arizona, 85282.

FOR FURTHER INFORMATION CONTACT: Ms. Katrina Grantz, Bureau of Reclamation, telephone (801) 524-3635; email at kgrantz@usbr.gov; facsimile (801) 524-3807.

SUPPLEMENTARY INFORMATION: This meeting is being held under the provisions of the Federal Advisory Committee Act of 1972 (5 U.S.C., Appendix, as amended), the Government in the Sunshine Act of 1976 (5 U.S.C. 552B, as amended), and 41 CFR 102-3.140 and 102-3.150.

Purpose of the Meeting: The Glen Canyon Dam Adaptive Management Program (GCDAMP) was implemented as a result of the Record of Decision on the Operation of Glen Canyon Dam Final Environmental Impact Statement to comply with consultation requirements of the Grand Canyon Protection Act (Pub. L. 102-575) of 1992. The AMWG makes recommendations to the Secretary of the Interior concerning Glen Canyon Dam operations and other management actions to protect resources downstream of Glen Canyon Dam, consistent with the Grand Canyon Protection Act. The AMWG meets two to three times a year.

Agenda: The AMWG will meet to approve the Fiscal Year 2018 Budget and Work Plan, and receive updates on: (1) Current basin hydrology and 2018 operations; (2) non-native fish issues; (3) joint tribal liaison report; and (4) science results from Grand Canyon Monitoring and Research Center staff. The AMWG will also discuss other administrative and resource issues pertaining to the GCDAMP. To view a copy of the agenda and meeting documents, and/or participate via WebEx/Conference Call, please visit Reclamation's Web site at https://www.usbr.gov/uc/rm/amp/amwg/mtgs/17sep20.

Meeting Accessibility/Special Accommodations: The meeting is open to the public and seating is on a first-come basis. Individuals requiring special accommodations to access the public meeting should contact Ms. Linda Whetton, Bureau of Reclamation, Upper Colorado Regional Office, by email at lwhetton@usbr.gov, or phone (801) 524-3880, at least five (5) business days prior to the meeting so that appropriate arrangements can be made.

Public Disclosure of Comments: Time will be allowed at the meeting for any individual or organization wishing to make formal oral comments. To allow for full consideration of information by the AMWG members, written notice must be provided to Ms. Katrina Grantz, Bureau of Reclamation, Upper Colorado Regional Office, 125 South State Street, Room 8100, Salt Lake City, Utah, 84138; email at kgrantz@usbr.gov; or facsimile (801) 524-3807, at least five (5) business days prior to the meeting. Any written comments received will be provided to the AMWG members.

Before including your address, phone number, email address, or other personal identifying information in your comment, you should be aware that your entire comment—including your personal identifying information—may be made publicly available at any time. While you can ask us in your comment to withhold your personal identifying information from public review, we cannot guarantee that we will be able to do so.

Dated: July 28, 2017.
Kathleen Callister,
Manager, Environmental Resources Division, Upper Colorado Regional Office.

[FR Doc. 2017-18265 Filed 8-28-17; 8:45 am]

BILLING CODE 4332-90-P